DEPARTMENT OF JUSTICE

[OMB Number 1121-0364]

Agency Information Collection Activities; Proposed eCollection eComments Requested; Revision of a Currently Approved Collection: Annual Survey of Jails in Indian Country

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 30 days until May 26, 2020.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Revision of a Currently Approved Collection.

2. Title of the Form/Collection: Annual Survey of Jails in Indian Country (SJIC).

3. Agency form number, if any, and the applicable component of the Department of Justice sponsoring the collection: The form number is CJ-5B: Survey of Jails in Indian Country (SJIC). This form is sent to approximately 84 confinement facilities, detention centers, and other correctional facilities operated by tribal authorities or the Bureau of Indian Affairs (BIA). The applicable component within the Department of Justice is the Bureau of Justice Statistics (BJS), in the Office of Justice Programs.

4. Affected public who will be asked or required to respond, as well as a brief abstract: The affected public that will be asked to respond to CJ-5B includes jail administrators from approximately 84 confinement facilities, detention centers, and other correctional facilities operated by tribal authorities or the Bureau of Indian Affairs. The respondents will be asked to provide information for the following categories:

(a) At midyear (last weekday in the month of June), the number of inmates confined in jail facilities including: Male and female adult and juvenile inmates; persons under age 18 held as adults; age category (starting in 2020); convicted and unconvicted males and females; persons held for a felony and a misdemeanor; the inmates most serious offense (i.e., domestic violence offense, aggravated or simple assault, rape, other violent, burglary, larceny-theft, drug law violation, DWI/DUI of alcohol or drugs, public intoxication, and other unspecified offenses);

(b) The average daily population during the 30-day period in June;

(c) The date and count for the greatest number of confined inmates during the 30-day period in June;

(d) The number of new admissions into jail, and final discharges from jail during the month of June;

(e) From July 1 of the previous year to June 30 of the current collection year: The number of inmate deaths while confined, the number of deaths attributed to suicide, and the number of confined inmates that attempted suicide;

(f) At midyear, the number of correctional staff employed by the facility and their occupation (e.g., administration, jail operations, educational staff, etc.);

(g) At midyear, the number of jail operations employees who had received the basic detention officer certification and how many had received 40 hours of in-service training; and

(h) At midyear, the total rated capacity of jail facilities.

In addition to the above items, the 2020 and 2021 SJIC will include a special addendum on the COVID-19 epidemic with the following six questions:

(a) One-day inmate counts every month from January to May 2020 (July 2020 to December 2020 for the 2021 SJIC);

(b) The number of inmates that received expedited release due to COVID-19 from January 1, 2020, to June 30, 2020 (July 1, 2020, to December 31, 2020 for the 2021 SJIC);

(c) The number of inmates tested for COVID-19 and the number that tested positive from January 1, 2020, to June 30, 2020 (July 1, 2020, to December 31, 2020 for the 2021 SJIC);

(d) The number of staff tested for COVID-19 and the number that tested positive from January 1, 2020, to June 30, 2020 (July 1, 2020, to December 31, 2020 for the 2021 SJIC);

(e) Inmate deaths and staff deaths from COVID-19 from January 1, 2020, to June 30, 2020 (July 1, 2020, to December 31, 2020 for the 2021 SJIC);

(f) The number of inmates not admitted to jail due to testing positive for COVID-19 during the intake process from January 1, 2020, to June 30, 2020 (July 1, 2020, to December 31, 2020 for the 2021 SJIC).

This collection is the only national effort devoted to describing and understanding annual changes in the tribal jail population. The collection enables BJS, tribal correctional authorities and administrators, legislators, researchers, and jail planners to track growth in the number of jails and their capacities nationally, as well as to track changes in the demographics and supervision status of the tribal jail population and the prevalence of crowding. To address the public-health emergency on COVID-19, BJS modified the 2020 and 2021 survey instrument to include COVID-19 related questions.

5. An estimate of the total number of respondents and the amount of time estimated for an average respondent to respond:

Reporting mode | Purpose of contact | Number of responses | Average reporting time (min) | Estimated total burden hours
2019 SJIC:
Mail, Fax, Email, telephone | Data collection | 84 | 75 | 105
Email and telephone | Verify facility operational status and point-of-contact | 84 | 2 | 3
Email and telephone | Data quality follow-up validation | 84 | 7 | 10
Total |  | 84 | 84 | 118
2020 and 2021 SJIC:
Mail, Fax, Email, telephone | Data collection | 84 | 115 | 161
Email and telephone | Verify facility operational status, point-of-contact, and pre-notification of COVID-19 addendum | 84 | 4 | 6
Email and telephone | Data quality follow-up validation | 84 | 10 | 14
Total |  | 84 | 129 | 181

The 2019 SJIC questionnaire (form CJ-5B) was sent to 84 Indian country correctional facilities operated by tribal authorities or the Bureau of Indian Affairs (BIA). Based on prior years' reporting, we estimated a reporting time of 75 minutes for the 2019 SJIC questionnaire. Also in 2019, the respondents had an additional average reporting time of 2 minutes to verify facility operational status and point-of-contact, and 7 minutes for data quality follow-up validation.

For each year in 2020 and 2021, we estimate an average reporting time of 115 minutes for the survey form that includes the new question on inmate counts by age category and the addendum on COVID-19. The respondents will also have an additional average reporting time of 4 minutes to verify facility operational status, point-of-contact, and to pre-notify and answer respondent questions on the COVID-19 addendum. If needed, jail respondents will also be contacted by email or telephone to verify data quality issues (10 minutes per respondent).

The total reporting time per facility is 84 minutes in 2019 and 129 minutes each year in 2020 and 2021. In all, the total burden was 118 hours in 2019 and 181 hours each year in 2020 and 2021.

If additional information is required, contact: Melody Braswell, Department Clearance Officer, United States Department of Justice, Justice Management Division, Policy and Planning Staff, Two Constitution Square, 145 N Street NE, 3E.405A, Washington, DC 20530.

Dated: April 21, 2020.
Melody Braswell,
Department Clearance Officer for PRA, U.S. Department of Justice.

[FR Doc. 2020-08731 Filed 4-23-20; 8:45 am]

BILLING CODE 4410-18-P